SOCIAL SECURITY ADMINISTRATION

20 CFR Part 404

[Docket No. SSA-2007-0082]

RIN 0960-AG71

Revised Medical Criteria for Evaluating Human Immunodeficiency Virus (HIV) Infection and for Evaluating Functional Limitations in Immune System Disorders; Correction and Extension of Comment Period

AGENCY: Social Security Administration.

ACTION: Proposed rule; correction and extension of comment period.

SUMMARY: This document corrects and extends the deadline for submitting comments on the notice of proposed rulemaking (NPRM) published in the Federal Register on Wednesday, February 26, 2014, regarding Revised Medical Criteria for Evaluating Human Immunodeficiency Virus (HIV) Infection and for Evaluating Functional Limitations in Immune System Disorders.

DATES: The comment period for the proposed rule, published February 26, 2014 (79 FR 10730), is extended. To ensure that your comments are considered, we must receive them by no later than May 27, 2014.

ADDRESSES: You may submit comments by any one of three methods—Internet, fax, or mail. Do not submit the same comments multiple times or by more than one method. Regardless of which method you choose, please state that your comments refer to Docket No. SSA-2007-0082 so that we may associate your comments with the correct regulation.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function to find docket number SSA-2007-0082. The system will issue you a tracking number to confirm your submission. You will not be able to view your comment immediately because we must post each comment manually. It may take up to a week for your comment to be viewable.

2. Fax: Fax comments to (410) 966-2830.

3. Mail: Address your comments to the Office of Regulations and Reports Clearance, Social Security Administration, 107 Altmeyer Building, 6401 Security Boulevard, Baltimore, Maryland 21235-6401.

Comments are available for public viewing on the Federal eRulemaking portal at http://www.regulations.gov or in person, during regular business hours, by arranging with the contact person identified below.

FOR FURTHER INFORMATION CONTACT: Cheryl Williams, Office of Medical Listings Improvement, Social Security Administration, 6401 Security Boulevard, Baltimore, Maryland 21235-6401, (410) 965-1020. For information on eligibility or filing for benefits, call our national toll-free number, 1-800-772-1213, or TTY 1-800-325-0778, or visit our Internet site, Social Security Online, at http://www.socialsecurity.gov.

SUPPLEMENTARY INFORMATION: On February 26, 2014 we published an NPRM at 79 FR 10730 that proposed to revise our medical criteria for evaluating HIV infection and functional limitations in immune system disorders. We provided the public with a 60-day comment period. The NPRM incorrectly included criteria in listing of impairment 113.00 that we did not intend to include. We are correcting that error and extending the comment period in order that the public may have a full sixty days to comment following this correction.

Correction

In proposed rule FR Doc. 2014-04124, beginning on page 10730 in the issue of Wednesday, February 26, 2014, in the proposed regulatory language section, make the following corrections:

Appendix 1 to Subpart P of Part 404—[Corrected]

1. On page 10739 in the 2nd column, in Listing 113.00 of Part B of Appendix 1 to Subpart P of Part 404, remove the sentence of paragraph A. that reads, “If you have HIV infection, we use the criteria in 114.08E to evaluate carcinoma of the cervix, Kaposi sarcoma, lymphoma, and squamous cell carcinoma of the anal canal and anal margin.”.

Extension of Comment Period

This notice requested that the public submit comments by April 28, 2014.

We are hereby extending the deadline for submitting comments to May 27, 2014.

Dated: March 19, 2014.
Carolyn W. Colvin,
Acting Commissioner of Social Security.

[FR Doc. 2014-06524 Filed 3-24-14; 8:45 am]

BILLING CODE 4191-02-P